DEPARTMENT OF THE TREASURY

Submission for OMB Review; Comment Request

April 4, 2008.

The Department of the Treasury will submit the following public information collection requirement(s) to OMB for review and clearance under the Paperwork Reduction Act of 1995, Public Law 104-13 after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 14, 2008 to be assured of consideration.

Office of Domestic Finance

OMB Number: 1505-0123.

Type of Review: Extension.

Title: Survey of Foreign-Residents' Holdings of U.S. Securities.

Description: The survey collects information on foreign residents' holdings of U.S. securities, including selected money market instruments. The data is used in the computation of the U.S. balance of payments accounts and U.S. international investment position, in the formulation of U.S. financial and monetary policies, to satisfy 22 U.S.C. 3101, and for information on foreign portfolio investment patterns. Respondents are primarily the largest banks, securities dealers, and issuers of U.S. securities.

Respondents: Businesses or other for-profit institutions.

Estimated Total Reporting Burden: 31,500 hours.

Clearance Officer: Office of Domestic Finance, (202) 622-1276, Department of the Treasury, 1500 Pennsylvania Avenue, NW., Rm. 5205, Washington, DC 20220.

OMB Reviewer: Alexander T. Hunt, (202) 395-7316, Office of Management and Budget, Room 10235, New Executive Office Building, Washington, DC 20503.

Robert Dahl,
Treasury PRA Clearance Officer.

[FR Doc. E8-7832 Filed 4-11-08; 8:45 am]

BILLING CODE 4810-25-P